DEPARTMENT OF EDUCATION

Notice of Waivers Granted Under Section 9401 of the Elementary and Secondary Education Act, as Amended

SUMMARY: In this notice, we enumerate the waivers that the U.S. Department of Education (Department) granted during calendar year 2007 under the waiver authority in section 9401 of the Elementary and Secondary Education Act of 1965 (ESEA), as amended by the No Child Left Behind Act of 2001.

In 2007, the Department granted a total of 35 waivers under the ESEA section 9401 waiver authority. The waivers granted were as follows: (1) Four waivers related to Hurricanes Katrina and Rita; (2) four growth model pilots; (3) four waivers allowing local educational agencies (LEAs) in need of improvement to be eligible to apply to their State educational agency (SEA) to become supplemental educational services (SES) providers; (4) four waivers allowing LEAs to provide SES rather than public school choice to eligible students attending schools that receive funding under Part A of Title I of the ESEA (Title I schools) and are in the first year of school improvement; (5) two substitute assessment waivers; (6) one waiver of the notification requirements regarding public school choice under Part A of Title I; (7) one schoolwide eligibility waiver; (8) one Title I, Part A within-district allocation waiver; (9) one transferability waiver; and (10) thirteen waivers allowing recipients of funds under the Indian Education program to charge additional administrative costs to the program.

Waiver Data

I. Waivers Related to Hurricanes Katrina and Rita

1. Waiver Applicant: Louisiana Department of Education

• Provision waived: Section 1127(b) of the ESEA.

• Date waiver granted: March 9, 2007.

• Description of waiver: Permits Louisiana to waive for its LEAs, more than once every three years, the 15 percent carryover limitation applicable to Title I, Part A funds.

2. Waiver Applicant: Louisiana Department of Education

• Provision waived: Tydings Amendment, section 421(b) of the General Education Provisions Act (GEPA).

• Date waiver granted: March 9, 2007.

• Description of waiver: Extended until September 30, 2008 the period of availability for fiscal year 2005 ESEA funds.

3. Waiver Applicant: Mississippi Department of Education

• Provision waived: Section 1127(b) of the ESEA.

• Date waiver granted: July 10, 2007.

• Description of waiver: Permits Mississippi to waive for its LEAs, more than once every three years, the 15 percent carryover limitation applicable to Title I, Part A funds.

4. Waiver Applicant: Mississippi Department of Education

• Provision waived: Tydings Amendment, section 421(b) of GEPA.

• Date waiver granted: October 12, 2007.

• Description of waiver: Extended until September 30, 2008 the period of availability for fiscal year 2005 Title I, Part A funds.

II. Growth Model Pilots

1. Waiver Applicant: Alaska Department of Education

• Provision waived: Section 1111(b)(2) of the ESEA.

• Date waiver granted: July 3, 2007.

• Description of waiver: Provided Alaska the flexibility to implement a growth-based accountability model as part of determining adequate yearly progress (AYP) beginning in the 2006-2007 school year.

2. Waiver Applicant: Arizona Department of Education

• Provision waived: Section 1111(b)(2) of the ESEA.

• Date waiver granted: July 3, 2007.

• Description of waiver: Provided Arizona the flexibility to implement a growth-based accountability model as part of determining AYP beginning in the 2006-2007 school year.

3. Waiver Applicant: Iowa Department of Education

• Provision waived: Section 1111(b)(2) of the ESEA.

• Date waiver granted: August 15, 2007.

• Description of waiver: Provided Iowa the flexibility to implement a growth-based accountability model as part of determining AYP beginning in the 2006-2007 school year.

4. Waiver Applicant: Ohio Department of Education

• Provision waived: Section 1111(b)(2) of the ESEA.

• Date waiver granted: August 15, 2007.

• Description of waiver: Provided Ohio the flexibility to implement a growth-based accountability model as part of determining AYP beginning in the 2006-07 school year, conditional upon Ohio's adopting a uniform minimum group size for all students in the State, including students with disabilities and limited English proficient students.

III. Allowing LEAs in Need of Improvement To Be Eligible To Apply to Their SEA To Become Supplemental Educational Services (SES) Providers

1. Waiver Applicant: Anchorage School District, AK

• Provision waived: 34 CFR 200.47(b)(1)(iv)(B).

• Date waiver granted: August 7, 2007.

• Description of waiver: Permitted the Anchorage School District to be eligible to apply to its SEA to become a provider of SES to eligible students during the 2007-2008 school year even though the district was identified for improvement.

2. Waiver Applicant: Boston Public Schools, MA

• Provision waived: 34 CFR 200.47(b)(1)(iv)(B).

• Date waiver granted: August 7, 2007.

• Description of waiver: Permitted Boston Public Schools to be eligible to apply to its SEA to become a provider of SES to eligible students during the 2007-2008 school year even though the district was identified for improvement.

3. Waiver Applicant: Chicago Public Schools, IL

• Provision waived: 34 CFR 200.47(b)(1)(iv)(B).

• Date waiver granted: August 9, 2007.

• Description of waiver: Permitted Chicago Public Schools to be eligible to apply to its SEA to become a provider of SES to eligible students during the 2007-2008 school year even though the district was identified for improvement.

4. Waiver Applicant: Hillsborough County Public Schools, FL

• Provision waived: 34 CFR 200.47(b)(1)(iv)(B).

• Date waiver granted: August 7, 2007.

• Description of waiver: Permitted Hillsborough County Public Schools to be eligible to apply to its SEA to become a provider of SES to eligible students during the 2007-2008 school year even though the district was identified for improvement.

IV. Allowing LEAs To Provide SES Rather Than Public School Choice to Eligible Students in Title I Schools in the First Year of School Improvement

1. Waiver Applicant: Alaska Department of Education and Early Development

• Provisions waived: Sections 1116(b)(1)(E) and 1116(b)(5)(B)

• Date waiver granted: August 1, 2007.

• Description of waiver: For the 2007-2008 school year, permitted two school districts—Anchorage School District and Juneau School District—to offer SES, rather than public school choice, to eligible students in Title I schools in the first year of school improvement.

2. Waiver Applicant: Indiana Department of Education

• Provisions waived: Sections 1116(b)(1)(E) and 1116(b)(5)(B)

• Date waiver granted: August 1, 2007.

• Description of waiver: For the 2007-2008 school year, permitted three school districts—Blackford County Schools, Metropolitan School District of Decatur Township, and Monroe County Community School Corporation—to offer SES, rather than public school choice, to eligible students in Title I schools in the first year of school improvement.

3. Waiver Applicant: North Carolina Department of Public Instruction

• Provisions waived: Sections 1116(b)(1)(E) and 1116(b)(5)(B)

• Date waiver granted: August 1, 2007.

• Description of waiver: For the 2007-2008 school year, permitted seven school districts—Burke County, Cumberland County, Durham County, Guilford County, Moore County, Northampton County, and Pitt County—to offer SES, rather than public school choice, to eligible students in Title I schools in the first year of school improvement.

4. Waiver Applicant: Virginia Department of Education

• Provisions waived: Sections 1116(b)(1)(E) and 1116(b)(5)(B)

• Date waiver granted: August 1, 2007.

• Description of waiver: For the 2007-2008 school year, permitted seven school districts—Fairfax County Public Schools, Fauquier County Public Schools, Greene County Public Schools, Hampton City Public Schools, Henrico County Public Schools, Henry County Public Schools, and Newport News City Public Schools—to offer SES, rather than public school choice, to eligible students in Title I schools in the first year of school improvement.

V. Substitute Assessment Waivers

1. Waiver Applicant: Maryland Department of Education

• Provision waived: 34 CFR 200.3(a)(1)(i).

• Date waiver granted: August 28, 2007.

• Description of waiver: Permits Maryland to use the results of Advanced Placement (AP) and International Baccalaureate (IB) assessments, through the 2009-2010 school year, as substitutes for the high school end-of-course assessments for purposes of determining AYP.

2. Waiver Applicant: Virginia Department of Education

• Provision waived: 34 CFR 200.3(a)(1)(i).

• Date waiver granted: July 16, 2007.

• Description of waiver: Permits Virginia to use the results of AP and IB assessments, through the 2009-2010 school year, as substitutes for the high school end-of-course assessments for purposes of determining AYP.

VI. Public School Choice Notification Waiver

1. Waiver Applicant: Pinellas County Schools, FL

• Provision waived: 34 CFR 200.44(a)(4)(i).

• Date waiver granted: August 20, 2007.

• Description of waiver: As a result of actions Pinellas County Schools was required to take under desegregation and related court orders, waived the requirement that the LEA identify two or more specific schools to which parents may transfer their children under the public school choice provisions of Title I.

VII. Schoolwide Eligibility Waiver

1. Waiver Applicant: Bismarck Public Schools, ND

• Provision waived: Section 1114(a)(1) of the ESEA.

• Date waiver granted: November 19, 2007.

• Description of waiver: Permits a middle school to implement a schoolwide program even though less than 40 percent of its students are from low-income families.

VIII. Title I Within-District Allocation Waiver

1. Waiver Applicant: Keene School District, NH

• Provision waived: Section 1113(a)(2)(B) of the ESEA.

• Date waiver granted: June 14, 2007.

• Description of waiver: Allows two elementary schools that have fallen slightly below the district-wide poverty rate to remain eligible for Title I, Part A services.

IX. Transferability Waiver

1. Waiver Applicant: Jefferson County Public Schools, KY

• Provision waived: Section 6123(b)(1) of the ESEA.

• Date waiver granted: July 13, 2007.

• Description of waiver: Permits the district, which has been identified for corrective action, to continue to transfer up to 30 percent of certain Federal funds to its allocations under Part A of Title V to support its high school dropout prevention program.

X. Waivers of the Administrative Cost Limitation That Applies to Indian Education Funds

On July 17, 2007, the Department granted the following school districts waivers of section 7115(d) of the ESEA, which establishes a five percent administrative cost limitation on funds awarded under the Indian Education Formula Grant program:

• San Carlos Unified School District, AZ;

• Whiteriver Unified School District, AZ;

• Eureka Unified School District, CA;

• Shasta Union High School District, CA;

• Ventura Unified School District and Ventura County School District, CA;

• Bay City Public Schools, MI;

• Broken Arrow Public Schools, OK;

• Colcord Public Schools, OK;

• Muskogee Public Schools, OK;

• Norman Public Schools, OK;

• Oolagah-Talala Public Schools, OK;

• Tulsa Public Schools, OK;

• Spokane Public Schools (School District 81), WA.

FOR FURTHER INFORMATION CONTACT: Susan Winingar, U.S. Department of Education, 400 Maryland Avenue, SW., room 3W310, Washington, DC 20202. Telephone: (202) 260-0942 or by e-mail: susan.winingar@ed.gov.

If you use a telecommunications device for the deaf (TDD), you may call the Federal Relay Service (FRS) at 1-800-877-8339. Individuals with disabilities may obtain this document in an alternative format (e.g., Braille, large print, audiotape, or computer diskette) on request to the program contact person listed in this section.

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Dated: April 3, 2008.
Kerri L. Briggs,
Assistant Secretary for Elementary and Secondary Education.

[FR Doc. E8-7383 Filed 4-7-08; 8:45 am]

BILLING CODE 4000-01-P